NUCLEAR REGULATORY COMMISSION

[Docket No. NRC-2014-0013]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on January 27, 2014.

1. Type of submission, new, revision, or extension: New.

2. The title of the information collection: Evaluation of Outreach Efforts Related to the NRC's Safety Culture Policy Statement.

3. Current OMB approval number: 3150-XXXX.

4. The form number if applicable: Not applicable.

5. How often the collection is required: One time.

6. Who will be required or asked to report: Respondents asked to voluntarily participate in this information collection activity will include licensees of the NRC's Office of Federal and State Materials and Environment Management Programs, fuel cycle, transportation and storage, and greater than critical mass licensees overseen by the NRC's Office of Nuclear Materials Safety and Safeguards, and materials licensees of the following Agreement States that have expressed interest in participating: Illinois, Minnesota, North Carolina, Ohio, Rhode Island, Virginia, Washington, and Wisconsin.

7. An estimate of the number of annual responses: 6,158 licensees of the NRC and participating Agreement States will be invited to participate in this one-time, voluntary information collection activity. One response per licensee will be requested. The staff anticipates a response rate of 50 percent; therefore, the expected number of responses is 3,079. Because the survey will only be administered once during the three year clearance period, the annualized number of responses is 1,026.3 responses.

8. The estimated number of annual respondents: The annualized number of estimated respondents is the same as the estimated number of responses, 1,026.3 respondents.

9. An estimate of the total number of hours needed annually to complete the requirement or request: The survey is estimated to take no more than 20 minutes (0.33 hours) per respondent. The total annualized burden is estimated to be 338.7 hours.

10. Abstract: In June 2011, the NRC issued its Safety Culture Policy Statement, which describes the Commission's expectation that the NRC's regulated community maintain a positive safety culture. The NRC continues to seek ways to engage with stakeholders, licensees, members of the public, and the international community to provide outreach and education on the Safety Culture Policy Statement. The purpose of the current information collection activity is to gather feedback on whether NRC's outreach and communication activities have been effective in promoting awareness of the Safety Culture Policy Statement, and to determine if changes to current activities and/or new activities are necessary and appropriate. To support this evaluation, the NRC staff plans to conduct a voluntary survey of its materials regulated community, specifically materials users, organizations involved in the fuel cycle, and storage and transportation of nuclear materials. The NRC staff has also invited Agreement States (i.e., States that have signed formal agreements with the NRC to assume regulatory responsibility over certain byproduct and source nuclear materials, as well as small quantities of special nuclear materials) to participate by voluntarily administering the survey to materials users they regulate, and eight states have agreed to participate. The NRC has determined that a standardized voluntary survey is the most practical means of gathering feedback on its outreach and communications regarding the Safety Culture Policy Statement. Using a survey approach for the evaluation allows for input to be solicited from a wide range of licensees in an efficient and consistent manner.

The public may examine and have copies for a fee of publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by June 6, 2014. Comments received after this date will be considered if it is practical to do so, but assurance of consideration cannot be given to comments received after this date.

Danielle Y. Jones, Desk Officer, Office of Information and Regulatory Affairs (3150-XXXX), NEOB-10202, Office of Management and Budget, Washington, DC 20503.

Comments can also be emailed to Danielle_Y_Jones@omb.eop.gov or submitted by telephone at 202-395-1741.

The Acting NRC Clearance Officer is Kristen Benney, telephone: 301-415-6355.

Dated at Rockville, Maryland, this 1st day of May, 2014.
For the Nuclear Regulatory Commission.
Kristen Benney,
Acting NRC Clearance Officer, Office of Information Services.

[FR Doc. 2014-10382 Filed 5-6-14; 8:45 am]

BILLING CODE 7590-01-P